INTERNATIONAL TRADE COMMISSION

[USITC SE-15-027]

Government in the Sunshine Act Meeting Notice

AGENCY HOLDING THE MEETING: United States International Trade Commission

TIME AND DATE: September 3, 2015 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-539 and 731-TA-1280-1282 (Preliminary) (Heavy Walled Rectangular Welded Carbon Steel Pipes and Tubes from Korea, Mexico, and Turkey). The Commission is currently scheduled to complete and file its determinations on September 4, 2015; views of the Commission are currently scheduled to be completed and filed on September 14, 2015.

5. Outstanding action jackets: none

In accordance with Commission policy, subject matter listed above, not disposed of at the scheduled meeting, may be carried over to the agenda of the following meeting.

By order of the Commission.
Issued: August 25, 2015.
William R. Bishop,
Supervisory Hearings and Information Officer.

[FR Doc. 2015-21715 Filed 8-28-15; 4:15 pm]

BILLING CODE 7020-02-P